DEPARTMENT OF ENERGY

Federal Energy Regulatory Commission

[Project No. 4678-053]

New York Power Authority; Notice of Revised Procedural Schedule

Concurrent with this notice, a letter order was issued granting the New York Power Authority's (NYPA) request to extend the deadline for filing motions to intervene, protests, comments, recommendations, preliminary terms and conditions, and preliminary fishway prescriptions for the Crescent Hydroelectric Project No. 4678 (Crescent Project).¹ Consistent with the letter order, this notice extends the deadlines for filing motions to intervene, protests, comments, recommendations, preliminary terms and conditions, and preliminary fishway prescriptions for the Crescent Project from September 16, 2024 until March 17, 2025. The deadline for filing reply comments is extended from October 31, 2024, to May 1, 2025. This notice also extends the deadline for requesting water quality certification for the Crescent Project from September 16, 2024, until March 17, 2025.

¹ See https://elibrary.ferc.gov/eLibrary/filelist?accession_num=20240910-3041.

Dated: September 10, 2024.
Debbie-Anne A. Reese,
Acting Secretary.

[FR Doc. 2024-21027 Filed 9-16-24; 8:45 am]

BILLING CODE 6717-01-P